SURFACE TRANSPORTATION BOARD

[Docket No. FD 36651]

Ventura County Railroad Company—Operation Exemption—Ventura County Railway Company, LLC

Ventura County Railroad Company (VCRR), a Class III railroad, has filed a verified notice of exemption under 49 CFR 1150.41 to replace a lease between VCRR and Ventura County Railway Company, LLC (VCRC, LLC), with an operating and maintenance agreement that permits VCRR to operate as a common carrier over approximately 12.19 miles of VCRC, LLC's rail line that includes the mainline from milepost 0.0 (at the interchange with Union Pacific Railroad Company) to approximately milepost 5.8 on the docks at Port Hueneme, and three branches: the 1.05-mile Diamond Branch; the 1.71-mile Edison Branch, and the 3.63-mile Patterson Branch in the Port of Hueneme and Oxnard, Cal. (the Line).

According to VCRR, it has been operating over the Line since 1998. See Ventura Cnty. R.R.—Lease & Operation Exemption—Ventura Cnty. Ry., FD 33649 (STB served Sept. 24, 1998).¹ The verified notice states that the new agreement allows VCRR to continue operating over the Line and revises other commercial terms.

¹ The notice of exemption in Ventura County Railway—Lease & Operation Exemption, FD 33649, slip op. at 1, identifies the end of the main line as milepost 5.7.

VCRR certifies that its projected annual revenue resulting from the proposed transaction will not exceed $5 million and will not exceed those that would qualify it as a Class III rail carrier. VCRR also certifies that the new agreement does not include an interchange commitment.

The transaction may be consummated on or after January 1, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 23, 2022 (at least seven days before the exemption becomes effective).

All pleadings, referring to Docket No. FD 36651, must be filed with the Surface Transportation Board either via e-filing on the Board's website or in writing addressed to 395 E Street SW, Washington, DC 20423-0001. In addition, a copy of each pleading must be served on VCRR's representative, Eric M. Hocky, Clark Hill PLC, Two Commerce Square, 2001 Market St., Suite 2620, Philadelphia, PA 19103.

According to VCRR, this action is categorically excluded from environmental review under 49 CFR 1105.6(c) and from historic preservation reporting requirements under 49 CFR 1105.8(b).

Board decisions and notices are available at www.stb.gov.

Decided: December 13, 2022.
By the Board, Mai T. Dinh, Director, Office of Proceedings.
Jeffrey Herzig,
Clearance Clerk.

[FR Doc. 2022-27429 Filed 12-15-22; 8:45 am]

BILLING CODE 4915-01-P